CONSUMER PRODUCT SAFETY COMMISSION

16 CFR Parts 1630 and 1631

Proposed Technical Amendment to the Flammability Standards for Carpets and Rugs; Notice of Opportunity for Oral Comment

AGENCY: Consumer Product Safety Commission.

ACTION: Proposed rule.

SUMMARY: This document provides interested persons the opportunity for the oral presentation or written submissions regarding the proposed technical amendment to the flammability standards for carpets and rugs.

DATES: Requests to make an oral presentation or written submissions must be received by February 12, 2007.

ADDRESSES: Requests should be filed by e-mail to cpsc-os@cpsc.gov, by fax to (301) 504-0127, or mailed or delivered, preferably in five copies, to the Office of the Secretary, Consumer Product Safety Commission, Room 502, 4330 East West Highway, Bethesda, Maryland 20814-4408; telephone (301) 504-7923. Requests and submissions should be captioned “Carpet and Rug Amendment.”

FOR FURTHER INFORMATION CONTACT: Patricia K. Adair, Project Manager, Directorate for Engineering Sciences, Consumer Product Safety Commission, 4330 East West Highway, Bethesda, Maryland 20814; telephone (301) 504-7536 or e-mail: padair@cpsc.gov.

SUPPLEMENTARY INFORMATION: On November 13, 2006, the Consumer Product Safety Commission proposed to amend the flammability standards for carpets and rugs to remove the reference to Eli Lilly Company Product No. 1588 in Catalog No. 79, December 1, 1969, as the standard ignition source and provide a technical specification defining the ignition source. 71 FR 66145. Pursuant to Section 4(d) of the Flammable Fabrics Act, interested persons are hereby given an opportunity for the oral presentation of data, views, or arguments, as well as an opportunity to make written submissions. 15 U.S.C. 1193(d).

Authority: 15 U.S.C. 1193(d)).

Dated: January 8, 2007.
Todd A. Stevenson,
Secretary, Consumer Product Safety Commission.

[FR Doc. E7-266 Filed 1-11-07; 8:45 am]

BILLING CODE 6355-01-P